DEPARTMENT OF HOMELAND SECURITY

Coast Guard

33 CFR Part 117

[CGD01-07-056]

Drawbridge Operation Regulations; Raritan River, Arthur Kill, and Their Tributaries, NJ

AGENCY: Coast Guard, DHS.

ACTION: Notice canceling temporary deviation from regulations; notice of temporary deviation from regulations; request for comments.

SUMMARY: The Coast Guard is canceling the temporary deviation concerning the test operating schedule governing the AK Railroad Bridge across Arthur Kill at mile 11.6 between Staten Island, New York and Elizabeth, New Jersey. This deviation is canceled because the test schedule proved ineffective. In addition, the Commander, First Coast Guard District, has issued a new temporary deviation from the regulation governing the operation of the AK Railroad Bridge. This new temporary deviation requires the AK Railroad Bridge to remain in the open position at all times, except that, the draw would close for the passage of trains for two daily thirty minute closure periods within a designated one hour time frame on a fixed schedule with a one hour adjustment whenever high water occurs during or up to one hour after the applicable closure period. In addition, a number of unscheduled requests for thirty minute closure periods may be granted by the Coast Guard within one to three hours of receipt of the request. The purpose of this deviation is to test a new temporary change to the drawbridge operation schedule to help determine the most equitable and safe solution to facilitate the present and anticipated needs of navigation and rail traffic.

DATES: The temporary deviation published on March 20, 2007 in 72 FR 12981 is cancelled as of midnight on June 8, 2007. The revised deviation is effective 12:01 a.m. on June 8, 2007 until November 23, 2007. Comments must be received by October 15, 2007.

ADDRESSES: You may mail comments and related material to Commander (dpb), First Coast Guard District Bridge Branch, One South Street, Battery Park Building, New York, New York, 10004, or deliver them to the same address between 7 a.m. and 3 p.m., Monday through Friday, except, Federal holidays. The telephone number is (212) 668-7165. The First Coast Guard District, Bridge Branch, maintains the public docket for this deviation. Comments and material received from the public, as well as documents indicated in this notice as being available in the docket, will become part of this docket and will be available for inspection or copying at the First Coast Guard District, Bridge Branch, 7 a.m. to 3 p.m., Monday through Friday, except Federal holidays.

FOR FURTHER INFORMATION CONTACT: Mr. Joe Arca, Project Officer, First Coast Guard District, Bridge Branch, at (212) 668-7165.

SUPPLEMENTARY INFORMATION:

Request For Comments

We encourage you to participate in evaluating this test schedule by submitting comments and related material. If you do so, please include your name and address, identify the docket number for this deviation (CGD01-07-056), indicate the specific section of this document to which each comment applies, and give the reason for each comment. Please submit all comments and related material in an unbound format, no larger than 8½ by 11 inches, suitable for copying. If you would like to know they reached us, please enclose a stamped, self-addressed postcard or envelope. We will consider all comments and material received during the comment period. Comments must be received by October 15, 2007, prior to the end of the deviation period so that adjustments to the tested operating schedule may be made, if necessary.

Background and Purpose

On March 20, 2007, we published a temporary deviation entitled “Drawbridge Operation Regulations; Raritan River, Arthur Kill, and Their Tributaries, NJ” in the Federal Register (72 FR 12981). The temporary deviation concerned a test operating schedule for the bridge needed to help determine a bridge operating schedule that will accommodate present and anticipated rail operations while continuing to provide for the present and anticipated needs of navigation. Background about the AK Railroad Bridge and the bridge owner's rehabilitation efforts may be found at 72 FR 12981. This deviation from the operating regulations was authorized under 33 CFR 117.35.

Beginning on April 9, 2007, the bridge operated in accordance with the test schedule approved by the Coast Guard in the above referenced notice. Actual rail operations, however, have been such that shifting the scheduled bridge closure times to occur between 9 a.m. and 10 a.m. and 12 p.m. to 1 p.m. would more efficiently accommodate all rail and marine transportation needs.

The purpose of this new temporary deviation is to help determine a bridge operating schedule that will accommodate both Conrail's proposed train schedule, future rail operations, and the present and anticipated needs of navigation.

This deviation will test a new alternate drawbridge operation schedule designed to help facilitate the safe coordination of vessel and rail traffic. A variety of factors, such as daily tide variations, the present and anticipated needs of navigation, and train scheduling, will be evaluated during this temporary test deviation.

The schedule considered in this notice would provide two daily thirty minute bridge closures within designated one hour periods with a one hour adjustment during certain high tides, as predicted at the Battery, New York. Also, unscheduled bridge closure requests may be granted by the Coast Guard within one to three hours of receipt of the request for bridge closure.

Being able to predict bridge closure periods each day in advance would enable both rail and marine interests to schedule accordingly, obviating the need to adjust to different bridge closure times each day. The ability to obtain unscheduled bridge closures will offer flexibility in rail operations.

This temporary deviation requires the AK Railroad Bridge to remain in the open position at all times except during periods when it is allowed to remain in the closed position for the passage of rail traffic for two thirty minute periods between 9 a.m. and 10 a.m., and 12 p.m. and 1 p.m., daily. The only exception is when high tide occurs during or within one hour after the scheduled closed period. When high tide occurs during the bridge closure period the thirty minute bridge closure will occur between 10 a.m. and 11 a.m., and 1 p.m. and 2 p.m., i.e. one hour later; when high tide occurs within one hour after the scheduled closure period the thirty minute bridge closure will occur between 8 a.m. and 9 a.m., 11 a.m. and 12 p.m., i.e. one hour earlier. A schedule of bridge closure periods will be posted on the U.S. Coast Guard's Homeport Web site and published in the Local Notice to Mariners.

In addition to the scheduled closure periods, up to two, unscheduled thirty minute bridge closure periods per day, maximum of twelve per week, may be requested and may be approved by the Coast Guard within one to three hours of the request. The bridge will remain open for a minimum of one hour between bridge closures for the passage of marine traffic. In the event of bridge operational failure, the bridge owner or operator shall notify the Coast Guard Captain of the Port of New York immediately and shall ensure that a repair crew is on scene at the bridge no later than 45 minutes after the bridge fails to operate and that the repair crew shall remain at the bridge until the bridge has been restored to normal operations or raised and locked in the fully open position.

This deviation from the operating regulations is authorized under 33 CFR 117.35.

Cancellation

The deviation published in the Federal Register on March 20, 2007, (72 FR 12981) is being canceled because actual rail operations observed during the test deviation have been such that shifting the scheduled bridge closure times would more efficiently accommodate all transportation needs.

Dated: June 1, 2007.
Gary Kassof,
Bridge Program Manager, First Coast Guard District.

[FR Doc. 07-2869 Filed 6-6-07; 9:09 am]

BILLING CODE 4910-15-P